NUCLEAR REGULATORY COMMISSION

[Docket Nos. 50-445 and 50-446]

TXU Electric; Comanche Peak Steam Electric Station, Units 1 and 2 Environmental Assessment and Finding of No Significant Impact

The U.S. Nuclear Regulatory Commission (NRC) is considering issuance of amendments to Facility Operating License (FOL) Nos. NPF-87 and NPF-89, issued to TXU Electric (TXU or the licensee), for operation of the Comanche Peak Steam Electric Station (CPSES), Units 1 and 2, located in Somervell and Hood Counties, Texas.

Environmental Assessment

Identification of the Proposed Action

The proposed license amendments would amend the FOLs, and change the Technical Specifications, to increase the maximum, licensed, thermal power of both CPSES, Units 1 and 2, to 3458 MWt, which would represent an increase of approximately 1.4 percent of the currently licensed thermal power for CPSES, Unit 1, and an increase of approximately 0.4 percent for CPSES, Unit 2. In addition, TXU requests that Texas Municipal Power Agency (TMPA) be removed from both Units 1 and 2 licenses since transfer of ownership from TMPA to TXU was completed.

The proposed action is in accordance with the licensee's application for license amendment dated April 5, 2001. Section 6.0 of Attachment 2 to the licensee's April 5, 2001, application contains the licensee's Environmental Evaluation.

The Need for the Proposed Action

The proposed action would allow an increase in power generation at CPSES, Units 1 and 2, to provide additional electrical power for distribution to the grid. In certain circumstances, power uprate has been recognized as a safe and cost-effective method to increase generating capacity. The deletion of TMPA from FOL Nos. NPF-87 and NPF-89 is needed in order to accurately reflect the ownership status of CPSES.

Environmental Impacts of the Proposed Action

The NRC has previously evaluated the environmental impact of operation of CPSES, Units 1 and 2, as described in NUREG-0775, “Final Environmental Statement Related to the Operation of Comanche Peak Steam Electric Station, Units 1 and 2,” September 1981. With regard to consequences of postulated accidents, the licensee has analyzed the design-basis accident doses for the exclusion area boundary, low population zone, and the control room dose to the operators and determined that there will be a small increase in these doses; however, the analysis presented in NUREG-0775 postulates these doses resulting from releases at 104.5 percent of the currently licensed power level. Thus, the increase in postulated doses due to design-basis accidents is bounded by the previous evaluation presented in NUREG-0775 and are within the applicable limits of General Design Criterion 19 of Appendix A to Title 10 of the Code of Federal Regulations (10 CFR) Part 50 and the applicable limits of 10 CFR Part 100. No increase in the probability of these accidents is expected to occur.

With regard to normal releases, calculations have been performed that show the potential impact on the radiological effluents from the proposed increase in power level of CPSES, Units 1 and 2. For the proposed increase in power level for CPSES, Units 1 and 2, the calculations show that the offsite doses from normal effluent releases remain significantly below the bounding limits of 10 CFR Part 50, Appendix I. Normal annual average gaseous release remains limited to a small fraction of 10 CFR Part 20 limits for identified mixtures. Solid and liquid waste processing systems are expected to operate within their design requirements. More frequent operation of these systems may lead to a slight increase in solid and liquid production, but this increase is not expected to be significant.

The NRC has completed its evaluation of the proposed action, and concludes that the proposed action will not increase the probability or consequences of accidents, no changes are being made in the types of any effluents that may be released off site, and there is no significant increase in occupational or public radiation exposure. Therefore, there are no significant radiological environmental impacts associated with the proposed action.

With regard to potential nonradiological impacts, the proposed action does not have a potential to affect historic sites. With regard to thermal discharges to the Squaw Creek Reservoir, a small increase in the circulating water discharge temperature is expected due to the proposed increase in maximum thermal power for CPSES, Units 1 and 2. The increase is expected to be less than .25 degrees Fahrenheit, and therefore, insignificant. Existing administrative controls ensure the conduct of adequate monitoring, such that appropriate actions can be taken to preclude exceeding National Pollution Discharge Elimination System (NPDES) permitted limits. No additional monitoring requirements or other changes relative to the NPDES permit are required as a result of the proposed increase in maximum thermal power for CPSES, Units 1 and 2 and there will be no increase in water usage.

Therefore, as described in the preceding discussion, the proposed increase in maximum thermal power for CPSES, Units 1 and 2, would not have a significant environmental impact on the Squaw Creek Reservoir.

With regard to deletion of TMPA from FOL Nos. NPF-87 and NPF-89, this action is administrative in nature in that the transfer of ownership has already occurred in accordance with FOL license conditions. Accordingly, the deletion of TMPA from FOL Nos. NPF-87 and NPF-89 has neither radiological nor nonradiological impact.

Based upon the above, the NRC concludes that the proposed action does not significantly affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in NUREG-0775.

Agencies and Persons Consulted

On August 1, 2001, the NRC staff consulted with the Texas State official, Mr. Authur Tate of the Texas Department of Health, Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 5, 2001. Documents may be examined, and/or copied for a fee, a the NRC's Public Document Room, located at One White Flint North, 11555 Rockville Pike (first floor), Rockville, Maryland. Publically available records will be accessible electronically from the ADAMS Public Library component on the NRC Web site, http://www.nrc.gov (the Public Electronic Reading Room). If you do not have access to ADAMS or if there are problems in accessing the documents located in ADAMS, contact the NRC Public Document Room (PDR) Reference staff at 1-800-397-4209, 301-415-4737, or by e-mail at pdr@nrc.gov.

Dated at Rockville, Maryland, this 21st day of August, 2001.
For the Nuclear Regulatory Commission.
Robert A. Gramm,
Chief, Section 1, Project Directorate IV, Division of Licensing Project Management, Office of Nuclear Reactor Regulation.

[FR Doc. 01-21583 Filed 8-24-01; 8:45 am]

BILLING CODE 7590-01-P